FEDERAL COMMUNICATIONS COMMISSION

47 CFR Part 73

[DA 03-4120; MM Docket No. 00-102, RM-9888]

Radio Broadcasting Services; Charlotte Amalie, Christiansted, and Frederiksted, VI

AGENCY: Federal Communications Commission.

ACTION: Final rule.

SUMMARY: The Audio Division, at the joint request of Ocean FM Media and Island Prime Media, allots Channel 257A at Charlotte Amalie, Virgin Islands, as the community's ninth local FM transmission service. Additionally, we allot Channel 258A at Frederiksted, Virgin Islands, as the community's fourth local FM transmission service. To accommodate the allotments, we also substitute Channel 293B for Channel 258B at Christiansted, Virgin Islands, and modify Station WVIQ-FM's license accordingly. See 65 FR 37754, June 16, 2000. Channel 257A can be allotted to Charlotte Amalie in compliance with the Commission's minimum distance separation requirements with a site restriction of 4.2 kilometers (2.6 miles) west to avoid a short-spacing to the allotment site for Channel 258A at Frederiksted, Virgin Islands. The coordinates for Channel 257A at Charlotte Amalie are 18-21-25 North Latitude and 64-58-00 West Longitude. See SUPPLEMENTARY INFORMATION, infra.

DATES: Effective March 1, 2004. A filing window for Channel 257A at Charlotte Amalie, Virgin Islands, and Channel 258A at Frederiksted, Virgin Islands, will not be opened at this time. Instead, the issue of opening these allotments for auction will be addressed by the Commission in a subsequent Order. Since these allotments require the substitution of Channel 293B for Channel 258B at Christiansted, Virgin Islands, any requisite conditions for the channel change will be stipulated in said Order.

FOR FURTHER INFORMATION CONTACT: Sharon P. McDonald, Media Bureau, (202) 418-2180.

SUPPLEMENTARY INFORMATION: This is a synopsis of the Commission's Report and Order, MM Docket No. 00-102, adopted December 31, 2003, and released January 16, 2004. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Additionally, Channel 258A can be allotted to Frederiksted in compliance with the Commission's minimum distance separation requirements at city reference coordinates. The coordinates for Channel 258A at Frederiksted are 17-42-48 North Latitude and 64-53-00 West Longitude. To accommodate the allotments, Channel 293B can be substituted at Christiansted in compliance with the Commission's minimum distance separation requirements at Station WVIQ-FM's presently licensed site. The coordinates for Channel 293B at Christiansted are 17-44-07 North Latitude and 64-40-46 West Longitude.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 54, 303, 334, 336.

§ 73.202 [Amended]

2. Section 73.202(b), the Table of FM Allotments under Virgin Islands, is amended by adding Channel 257A at Charlotte Amalie; by adding Channel 258A at Frederiksted; and by removing Channel 258B and adding Channel 293B at Christiansted.

Federal Communications Commission.
John A. Karousos,
Assistant Chief, Audio Division, Media Bureau.

[FR Doc. 04-2838 Filed 2-9-04; 8:45 am]

BILLING CODE 6712-01-P